DEPARTMENT OF JUSTICE

Antitrust Division

Notice Pursuant to the National Cooperative Research and Production Act of 1993—Recreational Off-Highway Vehicle Organization

Notice is hereby given that, on June 23, 2008, pursuant to section 6(a) of the National Cooperative Research and Production Act of 1993, 15 U.S.C. 4301 et seq. (“the Act”), the Recreational Off-Highway Vehicle Organization (ROVO) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: Recreational Off-Highway Vehicle Organization, Irvine, CA. The nature and scope of ROVO's standards development activities are: The development of a proposed voluntary standard (ANSI/ROVO-1-200_) addressing the design, configuration and performance aspects of Recreational Off-Highway Vehicles (ROVs).

Patricia A. Brink,
Deputy Director of Operations, Antitrust Division.

[FR Doc. E8-17040 Filed 7-28-08; 8:45 am]

BILLING CODE 4410-11-M